CONSUMER PRODUCT SAFETY COMMISSION

[Docket No. CPSC-2017-0010]

Notice of Availability of Updated ASTM Standard

AGENCY: Consumer Product Safety Commission.

ACTION: Notice of availability and request for comment.

SUMMARY: The U.S. Consumer Product Safety Commission's (Commission or CPSC) mandatory rule, Safety Standard Mandating ASTM F963 for Toys, incorporates by reference ASTM F963-17, Standard Consumer Safety Specifications for Toy Safety. The Commission has received notice of a revision to this incorporated voluntary standard. CPSC seeks comment on whether the revision improves the safety of the consumer products covered by the standard.

DATES: Comments must be received by November 16, 2023.

ADDRESSES: Submit comments, identified by Docket No. CPSC-2017-0010, by any of the following methods:

Electronic Submissions: Submit electronic comments to the Federal eRulemaking Portal at: https://www.regulations.gov. Follow the instructions for submitting comments. Do not submit through this website: confidential business information, trade secret information, or other sensitive or protected information that you do not want to be available to the public. CPSC typically does not accept comments submitted by email, except as described below.

Mail/Hand Delivery/Courier/Confidential Written Submissions: CPSC encourages you to submit electronic comments by using the Federal eRulemaking Portal. You may, however, submit comments by mail, hand delivery, or courier to: Office of the Secretary, Consumer Product Safety Commission, 4330 East West Highway, Bethesda, MD 20814; telephone: (301) 504-7479.

Instructions: All submissions must include the agency name and docket number. CPSC may post all comments without change, including any personal identifiers, contact information, or other personal information provided, to https://www.regulations.gov. If you wish to submit confidential business information, trade secret information, or other sensitive or protected information that you do not want to be available to the public, you may submit such comments by mail, hand delivery, or courier, or you may email them to: cpsc-os@cpsc.gov.

Docket: For access to the docket to read background documents or comments received, go to: https://www.regulations.gov, and insert the docket number, CPSC-2017-0010, into the “Search” box, and follow the prompts.

FOR FURTHER INFORMATION CONTACT: Benjamin J. Mordecai, U.S. Consumer Product Safety Commission, 5 Research Place, Rockville, MD 20850; telephone: 301-987-2506; email: bmordecai@cpsc.gov.

SUPPLEMENTARY INFORMATION: Section 106(a) of the Consumer Product Safety Improvement Act of 2008 (CPSIA), mandated that ASTM F963-07ε1, Standard Consumer Safety Specifications for Toy Safety, shall be considered a mandatory consumer product safety standard issued by the CPSC.¹ 15 U.S.C. 2056b(a). After compliance with ASTMF963 became mandatory in 2009, there were revisions to the voluntary standard in 2008, 2011, 2016, and 2017. Currently, ASTM F963-17, with certain exceptions, is considered a consumer product safety standard issued by the Commission under section 9 of the Consumer Product Safety Act (CPSA). 16 CFR part 1250.

¹ Section 106(a) of the CPSIA does not require CPSC to incorporate section 4.2 and Annex 4 of ASTM F963-07ε1, or any provision that restated or incorporated an existing mandatory standard or ban promulgated by the Commission or by statute.

On October 23, 2023, ASTM notified CPSC of ASTM's approval and publication of revisions to ASTM F963 in a revised standard, numbered ASTM F963-23, approved on August 1, 2023. Under section 106(g) of the CPSIA, if ASTM proposes revisions to ASTM F963, ASTM must notify the Commission. 15 U.S.C. 2056b(g). The revised standard shall be considered a consumer product safety standard issued by the CPSC under section 9 of the CPSA (15 U.S.C. 2058), effective 180 days after the date on which ASTM notifies the Commission of the revision, unless, within 90 days after receiving that notice, the Commission notifies ASTM that it has determined that the proposed revision does not improve the safety of toys. 15 U.S.C. 2056b(g).

CPSC is assessing the revised voluntary standard to determine whether the revisions in ASTM F963-23 meet the requirements of CPSIA section 106(g). The Commission invites public comment on that question, to inform staff's assessment and any subsequent Commission consideration of the revisions in ASTM F963-23.²

² The Commission voted 4-0 to publish this notification.

ASTM F963-23 is available for review in several ways. ASTM has provided on its website (at https://www.astm.org/CPSC.htm), at no cost, a read-only copy of the 2023 revisions to ASTM F963 including a red-lined version that identifies the changes made to ASTM F963-17. A read-only copy of the existing mandatory standard (ASTM F963-17) is available for viewing, at no cost, on the ASTM website at: https://www.astm.org/READINGLIBRARY/. Interested parties can download copies of the standards by purchasing them from ASTM International, 100 Barr Harbor Drive, P.O. Box C700, West Conshohocken, PA 19428-2959; phone: 610-832-9585; https://www.astm.org. Alternatively, interested parties can schedule an appointment to inspect copies of the standards at CPSC's Office of the Secretary, U.S. Consumer Product Safety Commission, 4330 East West Highway, Bethesda, MD 20814; telephone: 301-504-7479.

Comments must be received by November 16, 2023. Because of the short statutory time frame Congress established for the Commission to consider revised voluntary standards under section 106(g) of the CPSIA, CPSC will not consider comments received after this date.

Alberta E. Mills,
Secretary, Consumer Product Safety Commission.

[FR Doc. 2023-24189 Filed 11-1-23; 8:45 am]

BILLING CODE 6355-01-P